DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title:

OMB Control Number: 0648-xxxx.

Form Number(s): None.

Type of Request: Emergency request for a new information collection.

Number of Respondents: 200.

Average Hours per Response: 45 minutes.

Burden Hours: 150.

Needs and Uses: The purpose of this collection of information is to make available to the scientific community remainders of physical samples that are being stored pending the lifting of preservation requirements (expected to occur in early June 2016) associated with recently settled legal claims for natural resource damages involving the Deepwater Horizon (DWH) oil spill. These samples include oil, sediment, biological tissue, and other materials collected for various investigational purposes. The majority of the samples belong to the National Oceanic and Atmospheric Administration (NOAA); a small portion of the collection belongs to the U.S. Fish and Wildlife Service (USFWS). Prior to sample disposal, NOAA and USFWS are offering these samples and/or remainders of samples to researchers and/or other interested members of the scientific community. The information collected will allow NOAA/USFWS to process requests for samples received by both agencies.

Emergency Paperwork Reduction Act review and authorization of the information request will facilitate an expeditious sample distribution and disposal process, more quickly reducing sample storage costs which currently total approximately $350,000 per month.

Affected Public: Not-for-profit institutions; business or other for-profit organizations.

Frequency: One time.

Respondent's Obligation: Required to obtain or retain benefits.

This information collection request may be viewed at reginfo.gov. Follow the instructions to view Department of Commerce collections currently under review by OMB.

Written comments and recommendations for the proposed information collection should be sent within 5 days of publication of this notice to OIRA_Submission@omb.eop.gov or fax to (202) 395-5806.

Dated: May 20, 2016.
Sarah Brabson,
NOAA PRA Clearance Officer.

[FR Doc. 2016-12378 Filed 5-24-16; 8:45 am]

BILLING CODE 3510-JE-P